NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 6, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301)713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, U.S. Army Research, Development and Engineering Center (N1-AU-00-29, 1 item, 1 temporary item). Master file of the Acquisition Information Management and Report System, an electronic information system used to collect and track information concerning contracts, contractors, and customers.

2. Department of the Army, U.S. Army Research, Development, and Engineering Center (N1-AU-00-32, 2 items, 2 temporary items). Master file and outputs of the Ammunition Accountability System, an electronic information system used to provide an audit trail of ammunition used for research and development. The system includes information on the classification, type, and price of ammunition.

3. Department of Commerce, Bureau of the Census (N1-29-00-3, 2 items, 2 temporary items). Records pertaining to the Transportation Truck Inventory and Use Survey (TIUS) of 1977 and the Commodity Transportation Survey of 1977, including questionnaire forms and computer printouts of information. The electronic aggregated data files from TIUS were previously approved for permanent retention.

4. Department of Commerce, Office of Inspector General (N1-40-00-1, 3 items, 3 temporary items). Records pertaining to audits and quality reviews. Included are such records as reports, working papers, financial statements, and electronic copies of documents created using electronic mail and word processing.

5. Department of Defense, National Imagery and Mapping Agency (N1-537-00-5, 1 item, 1 temporary item). Copies of paper records maintained separately from the agency's recordkeeping system. This schedule reduces the retention period for records which were previously approved for destruction.

6. Department of Energy, Office of Inspector General (N1-434-00-1, 19 items, 16 temporary items). Records relating to audits, inspections, and investigations. Included are audit case files, inspection files relating to allegations of a non-criminal nature and inquiries involving sensitive issues, and investigative records relating to alleged violations of law, waste, fraud, and abuse. Also included are electronic copies of documents created using electronic mail and word processing. Recordkeeping copies of semiannual reports to Congress are proposed for permanent retention as are final audit and inspection reports.

7. Department of Justice, Criminal Division (N1-60-00-9, 1 item, 1 temporary item). Paper and electronic records pertaining to non-litigative correspondence requiring a response which is received by the Criminal Division and tracked by the Division's Correspondence Management Staff. Included is correspondence with Congressional committees, individual members of Congress, and the general public as well as correspondence referred by the White House. Copies of Congressional committee correspondence regarding issues of interest to the Department of Justice, legislation, and other related matters that are held by the agency's Office of Legislation and Intergovernmental Affairs and by its Executive Secretariat were previously approved for permanent retention.

8. Department of Justice, Bureau of Prisons (N1-129-97-3, 5 items, 4 temporary items). Investigative files pertaining to crimes and prohibited acts that take place at agency correctional facilities. Also included are videotapes documenting the use of force and other actions of corrections officers and electronic copies of documents created using electronic mail and word processing. Recordkeeping copies of files relating to the most serious crimes, such as murder, rioting, escapes, and hostage taking, are proposed for permanent retention.

9. Department of State, Bureau of European Affairs (N1-59-99-2, 20 items, 16 temporary items). Records of the Assistant Secretary, Deputy Assistant Secretaries, Staff Assistants, and other “Front Office” staff, including such records as correspondence of Deputy Assistant Secretaries, chronological files, staff assistant files, biographical files, duplicate briefing books, task force files, and correspondence tracking system records. Also included are electronic copies of documents created using electronic mail and word processing. Proposed for permanent retention are recordkeeping copies of such files as the Assistant Secretary's correspondence, daily activity reports, special historical collections, briefing books, and Bureau level working group files.

10. Department of State, Bureau of European Affairs (N1-59-99-3, 15 items, 14 temporary items). Records of the Office of the Executive Director, including subject files, ambassador absence files, chronological files, budget files, and post management officers files. Also included are electronic copies of documents created using electronic mail and word processing. Recordkeeping copies of mission program plans for each post are proposed for permanent retention.

11. Department of State, Bureau of European Affairs (N1-59-99-4, 14 items, 13 temporary items). Records of the Office of Policy and Public Affairs, including country files, subject files, press clippings, copies of press guidance, speeches, and speaker biographical files. Also included are electronic copies of documents created using electronic mail and word processing. Recordkeeping copies of speeches of the Assistant Secretary are proposed for permanent retention.

12. Department of State, Bureau of European Affairs (N1-59-99-6, 19 items, 14 temporary items). Records of the Office of European Security and Political Affairs, including subject files that do not pertain to policy matters, chronological files, duplicate copies of briefing books, biographical files, task force files, and automated correspondence tracking records. Also included are electronic copies of documents created using electronic mail and word processing. Recordkeeping copies of substantive subject files, special historical collections, briefing books, Bureau level working group records, and negotiating files are proposed for permanent retention.

13. Department of State, Bureau of European Affairs (N1-59-99-7, 18 items, 14 temporary items). Records of the Office of Eastern European Assistance, including subject files that do not pertain to policy matters, chronological files, duplicate copies of briefing books, biographical files, daily activity reports, and task force files. Also included are electronic copies of documents created using electronic mail and word processing. Recordkeeping copies of substantive subject files, special historical collections, briefing books, and Bureau level working group records are proposed for permanent retention.

14. Department of State, Bureau of European Affairs (N1-59-99-9, 18 items, 15 temporary items). Records of the Geographic Offices responsible for European countries, including subject files that do not pertain to policy matters, chronological files, duplicate copies of briefing books, biographical files, daily activity reports, and task force files. Also included are electronic copies of documents created using electronic mail and word processing. Recordkeeping copies of special historical collections, briefing books, and Bureau level working group records are proposed for permanent retention.

15. Department of the Treasury, Bureau of Public Debt (N1-53-00-1, 4 items, 4 temporary items). Records relating to the reinvestment of maturing Treasury securities. Included are forms used to request reinvestments, responses to investors whose requests could not be processed, and electronic copies of documents created using electronic mail and word processing.

16. Bonneville Power Administration, Information Services (N1-305-99-1, 8 items, 8 temporary items). Records relating to the agency's Y2K program. Included are such records as system verification forms, correspondence, reports, presentations, and electronic copies of documents created using electronic mail and word processing.

Dated: August 15, 2000.
Michael J. Kurtz,
Assistant Archivist for Record Services—Washington, DC.

[FR Doc. 00-21258 Filed 8-21-00; 8:45 am]

BILLING CODE 7515-01-U